BUREAU OF CONSUMER FINANCIAL PROTECTION

[Docket No: CFPB-2015-0040]

Agency Information Collection Activities: Submission for OMB Review; Comment Request

AGENCY: Bureau of Consumer Financial Protection.

ACTION: Notice and request for comment.

SUMMARY: In accordance with the Paperwork Reduction Act of 1995 (PRA), the Consumer Financial Protection Bureau (Bureau) is proposing a new information collection titled, “Consumer Response Government and Congressional Boarding Forms.”

DATES: Written comments are encouraged and must be received on or before October 29, 2015 to be assured of consideration.

ADDRESSES: You may submit comments, identified by the title of the information collection, OMB Control Number (see below), and docket number (see above), by any of the following methods:

• Electronic: http://www.regulations.gov. Follow the instructions for submitting comments.

• OMB: Office of Management and Budget, New Executive Office Building, Room 10235, Washington, DC 20503 or fax to (202) 395-5806. Mailed or faxed comments to OMB should be to the attention of the OMB Desk Officer for the Bureau of Consumer Financial Protection.

Please note that comments submitted after the comment period will not be accepted. In general, all comments received will become public records, including any personal information provided. Sensitive personal information, such as account numbers or social security numbers, should not be included.

FOR FURTHER INFORMATION CONTACT: Documentation prepared in support of this information collection request is available at www.reginfo.gov (this link active on the day following publication of this notice). Select “Information Collection Review,” under “Currently under review,” use the dropdown menu “Select Agency” and select “Consumer Financial Protection Bureau” (recent submissions to OMB will be at the top of the list). The same documentation is also available at http://www.regulations.gov. Requests for additional information should be directed to the Consumer Financial Protection Bureau, (Attention: PRA Office), 1700 G Street NW., Washington, DC 20552, (202) 435-9575, or email: PRA@cfpb.gov. Please do not submit comments to this email box.

SUPPLEMENTARY INFORMATION:

Title of Collection: Consumer Response Government and Congressional Boarding Forms.

OMB Control Number: 3170-XXXX.

Type of Review: New collection (Request for a new OMB Control Number).

Affected Public: State, Local, and Tribal Governments; Federal Government.

Estimated Number of Respondents: 150.

Estimated Total Annual Burden Hours: 41.

Abstract: The Consumer Financial Protection Act of 2010 (the “Act”) directs the Bureau to facilitate the coordinated collection, monitoring, and response to consumer complaints regarding certain financial products and services. The Act further provides for consumer complaint information sharing between the Bureau and State and Federal agencies (“Agencies”) and for consumer complaint sharing and reporting to Congress. To fulfill these mandates, the Bureau has developed separate portals for Agencies and Congressional users as part of its secure web portal offerings (the “Government Portal” and the “Congressional Portal,” respectively).

Through the portals, Agencies and Congressional offices can view consumer submitted complaint data in a user-friendly format that allows easy identification of complaints currently active in the Bureau's process, complaints referred to a prudential federal regulator and other closed/archived complaints. The portals include features for Agencies and Congressional offices to export selected complaint data and search by company, consumer name, consumer financial product and more. They also allow Agencies and Congressional offices to identify whether a named company has responded to a complaint and view the company closure response category.

Request for Comments: The CFPB issued a 60-day Federal Register notice on June 25, 2015, (80 FR 36519). Comments were solicited and continue to be invited on: (a) Whether the collection of information is necessary for the proper performance of the functions of the Bureau, including whether the information will have practical utility; (b) The accuracy of the Bureau 's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for Office of Management and Budget approval. All comments will become a matter of public record.

Dated: September 16, 2015.
Linda F. Powell,
Chief Data Officer, Bureau of Consumer Financial Protection.

[FR Doc. 2015-24340 Filed 9-28-15; 8:45 am]

BILLING CODE 4810-AM-P